NUCLEAR REGULATORY COMMISSION

Docket No. 50-309

Maine Yankee Atomic Power Company; Maine Yankee Atomic Power Station Environmental Assessment and Finding of No Significant Impact

The U.S. Nuclear Regulatory Commission (NRC) is considering issuance of an exemption from certain requirements of its regulations to Facility Operating License No. DPR-36, issued to Maine Yankee Atomic Power Company (MYAPC or the licensee), for the Maine Yankee Atomic Power Station (MYAPS), a permanently shutdown nuclear reactor facility located in Lincoln County, Maine.

Environmental Assessment

Identification of Proposed Action

ACTION: The proposed action would exempt the MYAPS Independent Spent Fuel Storage Installation (ISFSI) from some requirements of 10 CFR 72.212(b)(5) to “protect the spent fuel against the design basis threat of radiological sabotage in accordance with the same provisions and requirements as are set forth” in 10 CFR 73.55, “Requirements for physical protection of licensed activities in nuclear power reactors against radiological sabotage.” The proposed action is in accordance with the licensee's application for exemption dated January 4, 2001, as supplemented by letters dated March 12 and April 4, 2001.

The Need for the Proposed Action

MYAPS was shut down in December 1996. On August 7, 1997, the licensee informed the Commission that it had decided to permanently cease operations at Maine Yankee Atomic Power Station and that all fuel had been permanently removed from the reactor. In accordance with 10 CFR 50.82(a)(2), the certifications in the letter modified the facility operating license to permanently withdraw MYAPC's authority to operate the reactor and to load fuel into the reactor vessel. The MYAPS spent nuclear fuel is currently being stored in the spent fuel pool, which is protected by a physical protection system meeting the requirements of 10 CFR 73.55, with exemptions as previously issued by the NRC. To complete the plant site decommissioning process, the spent fuel will be removed from the spent fuel pool and transferred to an onsite ISFSI for interim storage. Under the provisions of 10 CFR part 20, subpart K, General License for Storage of Spent Fuel at Power Reactor Sites, as specified in 10 CFR 72.212(b)(5), MYAPS is required to meet the physical protection requirements of 10 CFR 73.55 for an ISFSI at a reactor site. However, MYAPC has proposed to be exempted from the requirements of 10 CFR 72.212(b)(5) to “protect the spent fuel against the design basis threat of radiological sabotage in accordance with the same provisions and requirements as are set forth” in 10 CFR 73.55 (with certain exceptions provided by 10 CFR 72.212(b)(5)). Instead, MYAPC has proposed alternative approaches to meet the provisions of portions of 10 CFR 73.55 related to the security organization, physical barriers, access requirements, detection aids, communications, and response requirements. The alternative measures for protection against radiological sabotage would meet the same high assurance objectives and the general performance requirements of 10 CFR 73.55 related to spent fuel storage at an ISFSI.

Environmental Impacts of the Proposed Action

The NRC has completed its evaluation of the proposed action and concludes that granting an exemption from the requirements of 10 CFR 72.212(b)(5) to protect the spent fuel against the design basis threat of radiological sabotage in accordance with the requirements of 10 CFR 75.55, thereby enabling MYAPC to implement alternative provisions of 10 CFR 73.55, would not have a significant impact on the environment.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement related to Operation of Maine Yankee Atomic Power Station (July 1972).

Agencies and Persons Contacted

In accordance with its stated policy, on April 19, 2001, the staff consulted with Mr. Patrick Dostie of the State of Maine, Department of Human Services, Division of Health Engineering, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letters dated January 4, 2001, March 12, 2001, and April 4, 2001, which may be examined, and/or copied for a fee, at the NRC's Public Document Room, located at One White Flint North, 11555 Rockville Pike (first floor), Rockville, Maryland. Publicly available records will be accessible electronically from the ADAMS Public Library component on the NRC Web site, http:\\www.nrc.gov (the Electronic Reading Room).

Dated at Rockville, Maryland, this 5th day of June 2001.
For the Nuclear Regulatory Commission.
Michael K. Webb,
Project Manager, Section 1, Project Directorate IV & Decommissioning, Division of Licensing Project Management, Office of Nuclear Reactor Regulation.

[FR Doc. 01-14753 Filed 6-11-01; 8:45 am]

BILLING CODE 7590-01-P